DEPARTMENT OF DEFENSE

Office of the Secretary

[Transmittal No. 25-60]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-60, Policy Justification, and Sensitivity of Technology.

Dated: January 22, 2026.
Stephanie J. Bost,
Alternate OSD Federal Register Liaison Officer, Department of Defense.

BILLING CODE 6001-FR-P

BILLING CODE 6001-FR-C

Transmittal No. 25-60

Notice of Proposed Issuance of Letter of Offer Pursuant to Section 36(b)(1) of the Arms Export Control Act, as amended

(i) Prospective Purchaser: Government of Finland

(ii) Total Estimated Value:

Major Defense Equipment * | $0.95 billion
Other | $0.12 billion
TOTAL | $1.07 billion

(iii) Description and Quantity or Quantities of Articles or Services under Consideration for Purchase:

Major Defense Equipment (MDE):

Up to four hundred five (405) AIM-120D-3 Advanced Medium Range Air-to-Air Missiles (AMRAAM)

Eight (8) AIM-120D-3 guidance sections, with precise positioning provided by either the Selective Availability Anti-Spoofing Module or M-Code

Non-Major Defense Equipment:

The following non-MDE items will be included: AMRAAM control sections, containers, and support equipment; Common Munitions Built-in Test (BIT)/Reprogramming Equipment (CMBRE); ADU-891 adaptor group test sets; munitions support and support equipment; spare parts, consumables and accessories, and repair and return support; weapons software and support equipment; classified software delivery and support; classified publications and technical documentation; personnel training and training equipment; transportation support; site surveys; United States (U.S.) Government and contractor engineering, technical, and logistics support services; and other related elements of logistics and program support.

(iv) Military Department: Air Force (FI-D-YAR)

(v) Prior Related Cases, if any: FI-D-YAK

(vi) Sales Commission, Fee, etc., Paid, Offered, or Agreed to be Paid: None known at this time

(vii) Sensitivity of Technology Contained in the Defense Article or Defense Services Proposed to be Sold: See Attached Annex

(viii) Date Report Delivered to Congress: September 10, 2025

* as defined in Section 47(6) of the Arms Export Control Act.

POLICY JUSTIFICATION

Finland—AIM-120D-3 Advanced Medium Range Air-to-Air Missiles

The Government of Finland has requested to buy up to four hundred five (405) AIM-120D-3 Advanced Medium Range Air-to-Air Missiles (AMRAAM); and eight (8) AIM-120D-3 guidance sections, with precise positioning provided by either the Selective Availability Anti-Spoofing Module or M-Code. The following non-MDE items will be included: AMRAAM control sections, containers, and support equipment; Common Munitions Built-in Test (BIT)/Reprogramming Equipment (CMBRE); ADU-891 adaptor group test sets; munitions support and support equipment; spare parts, consumables and accessories, and repair and return support; weapons software and support equipment; classified software delivery and support; classified publications and technical documentation; personnel training and training equipment; transportation support; site surveys; U.S. Government and contractor engineering, technical, and logistics support services; and other related elements of logistics and program support. The estimated total cost is $1.07 billion.

This proposed sale will support the foreign policy and national security objectives of the U.S. by improving the security of a NATO Ally that is a force for political stability and economic progress in Europe.

The proposed sale will improve Finland's capability to meet current and future threats and enhance its interoperability with U.S. and other allied forces. Finland already has AMRAAMs in its inventory and will have no difficulty absorbing these articles into its armed forces.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of this proposed sale will not require the assignment of any additional U.S. Government or contractor representatives to Finland.

There will be no adverse impact on U.S. defense readiness as a result of this proposed sale.

Transmittal No. 25-60

Notice of Proposed Issuance of Letter of Offer Pursuant to Section 36(b)(1) of the Arms Export Control Act

Annex

Item No. vii

(vii) Sensitivity of Technology:

1. The AIM-120D-3 series Advanced Medium Range Air-to-Air Missile (AMRAAM) is a supersonic, air-launched, aerial intercept, guided missile featuring digital technology and micro-miniature solid-state electronics. AMRAAM capabilities include look-down/shoot-down, multiple launches against multiple targets, resistance to electronic countermeasures, and interception of high- and low-flying and maneuvering targets. The AIM-120D-3 features a quadrangle target detection device and an electronics unit within the guidance section that performs all radar signal processing, mid-course and terminal guidance, flight control, target detection, and warhead detonation.

2. The Common Munitions Built-In-Test (BIT)/Reprogramming Equipment (CMBRE) is support equipment used to interface with weapon systems to initiate and report BIT results, and upload and download flight software. CMBRE supports multiple munitions platforms with a range of applications that perform preflight checks, periodic maintenance checks, loading of Operational Flight Program data, loading of munitions mission planning data, loading of Global Positioning System (GPS) cryptographic keys, and declassification of munitions memory.

3. The ADU-891 adapter group test set provides the physical and electrical interface between the CMBRE and the missile.

4. This potential sale will include AMRAAM guidance and control section spares.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Finland can provide substantially the same degree of protection for the sensitive technology being released as the U.S. Government. This proposed sale is necessary in furtherance of the U.S. foreign policy and national security objectives outlined in the Policy Justification.

8. All defense articles and services listed in this transmittal have been authorized for release and export to the Government of Finland.

[FR Doc. 2026-01487 Filed 1-26-26; 8:45 am]

BILLING CODE 6001-FR-P